DEPARTMENT OF AGRICULTURE

National Agricultural Statistics Service

Submission for OMB Review; Comment Request

April 5, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; (4) ways to minimize the burden of the collection of information on those who are to respond, including through the use of appropriate automated, electronic, mechanical or other technological collection techniques or other forms of information technology.

Comments regarding this information collection received by May 11, 2016 will be considered. Written comments should be addressed to: Desk Officer for Agriculture, Office of Information and Regulatory Affairs, Office of Management and Budget (OMB), New Executive Office Building, 725 17th Street NW., Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Agricultural Prices.

OMB Control Number: 0535-0003.

Summary of Collection: The Agricultural Prices surveys provide data on the prices received by farmers and prices paid for production goods and services. This information is needed by the U.S. Department of Agriculture, National Agriculture Statistics Service (NASS) for the following purposes: (a) To compute Parity Prices in accordance with requirements of the Agricultural Adjustment Act of 1938 as amended (Title III, Subtitle A, Section 301a, (b) to estimate value of production, inventory values, and cash receipts from farming, (c) to determine the level for farmer owned reserves, (d) to provide guidelines for Risk Management Agency price selection options, (e) to determine Federal disaster prices to be paid, (f) establishing USDA's net farm income projections by the Economic Research Service and (g) to determine the grazing fee on Federal lands. General authority for these data collection activities is granted under U.S. Code Title 7, Section 2204.

Need and Use of the Information: The NASS price program computes annual U.S. weighted average prices received by farmers for wheat, barley, oats, corn, grain sorghum, rice, cotton, peanuts, pulse crops and oilseeds based on monthly marketing. Estimates of prices received are used by NASS to determine the value of agricultural production. Prices estimates are used by many Government agencies as a general measure of commodity price changes, economic analysis relating to farm income and alternative marketing policies, and for disaster and insurance payments. NASS estimates based on these surveys are used as a Principle Economic Indicator of the United States. These price estimates are also used to compute Parity Prices in accordance with requirements of the Agricultural Adjustment Act of 1938 as amended (Title III, Subtitle A, Section 301(a)).

Description of Respondents: Farms; Business or other for-profit.

Number of Respondents: 67,535.

Frequency of Responses: Reporting: On occasion; Monthly; Annually; Biennially.

Total Burden Hours: 30,583.

Charlene Parker,
Departmental Information Collection Clearance Officer.

[FR Doc. 2016-08173 Filed 4-8-16; 8:45 am]

BILLING CODE 3410-20-P